DEPARTMENT OF AGRICULTURE

Rural Business-Cooperative Service

Inviting Applications for the Delta Health Care Services Grant Program

AGENCY: Rural Business-Cooperative Service, USDA.

ACTION: Notice of extension of application deadline to clarify the requirement that Consortium members be located in the Delta Region.

SUMMARY: The Rural Business-Cooperative Service (RBS) extends the original deadline (July 24, 2017) for submitting applications for grant funds to help provide financial assistance to address the continued unmet health needs in the Delta Region announced in a Notice published May 22, 2017 in the Federal Register. This action is taken to clarify the requirement in the Notice that Consortium members be located in the Delta Region.

DATES: The deadline for submitting applications under the Notice published May 22, 2017, is extended to October 10, 2017.

ADDRESSES: Applications may be submitted via mail, courier, or hand delivery to the relevant RD State Office or electronically via http://www.grants.gov, in accordance with instructions published in the Federal Register Notice on May 22, 2017. Contact information for RD State Offices can be found at http://www.rd.usda.gov/contact-us/state-offices.

FOR FURTHER INFORMATION CONTACT: Grants Division, Cooperative Programs, Rural Business-Cooperative Service, 1400 Independence Avenue SW., Stop 3253, Washington, DC 20250-3253; or call (202) 690-1374.

SUPPLEMENTARY INFORMATION:

Background and Discussion of Extension of Application Deadline

RBS published a Notice on May 22, 2017 in Vol. 82, No. 97 (82 FR 23176) of the Federal Register with an application deadline of July 24, 2017. Subsequently, the Agency received multiple inquiries in regard to the definition of Consortium included in the Notice. RBS is extending the deadline to clarify the requirement in the Notice that Consortium members be located in the Delta Region.

The term `Consortium' is defined on page 23177 of the Notice published on May 22, 2017 in Vol. 82, No. 97 (82 FR 23176) as “a group of three or more entities that are regional Institutions of Higher Education, Academic Health and Research Institutes, and/or Economic Development Entities located in the Delta Region that have at least 1 year of prior experience in addressing the health care issues in the region. At least one of the consortium members must be legally organized as an incorporated organization or other legal entity and have legal authority to contract with the Federal Government.”

However, there were a number of potential applicants that requested further clarification on the requirement that Consortium members be located in the Delta Region. Specifically, if an organization has contractors working in the Delta Region, but the organization does not have a physical address and/or headquarters located in the Delta Region, would the organization be considered an eligible Consortium member.

Consortium members must have a physical address and/or headquarters located in the Delta Region to be eligible to apply for the Delta Health Care Services grant program. Delta Region means the 252 counties and parishes within the states of Alabama, Arkansas, Illinois, Kentucky, Louisiana, Mississippi, Missouri, and Tennessee that are served by the Delta Regional Authority

To ensure that all applicants are treated fairly, applicants who submitted an application in accordance with the original deadline may revise and resubmit their applications as necessary. Applicants who wish to revise their applications must resubmit their application by October 10, 2017.

Chad Parker,
Acting Administrator, Rural Business-Cooperative Service.

[FR Doc. 2017-20345 Filed 9-22-17; 8:45 am]

BILLING CODE 3410-XY-P